DEPARTMENT OF TRANSPORTATION

Relocation of DOT's Docket Operations Facility and Equipment and Temporary Docket Office Closure for All DOT Agencies, and Other Users, Including the Transportation Security Administration and the United States Coast Guard

AGENCY: Office of the Secretary (OST), DOT.

ACTION: Notice.

SUMMARY: This notice announces two service disruptions relating to the relocation of the U.S. Department of Transportation (DOT) Docket Operations Facility, which manages the Docket Management System (DMS) containing the public dockets for all agencies of the Department of Transportation, except the Surface Transportation Board. DOT's Docket Operations facility is moving to 1200 New Jersey Avenue, SE., Washington, DC 20590 and will be located on the West Building Ground Floor, Room W12-140. Hours for the new facility will continue to be 9 a.m. to 5 p.m., Monday through Friday, excluding legal holidays. The Docket Operations telephone number will continue to be (202) 366-9826.

1. To prepare for the relocation to the new facility, the Docket Operations office will be closed to the public on Friday, May 25, 2007, through Tuesday, May 29, 2007. The office will reopen to the public on Wednesday, May 30, 2007 at the new facility.

2. To move the computers that host the electronic dockets, the DMS will be unavailable for use from Wednesday, June 13, 2007, through Sunday, June 17, 2007. The electronic docket will again be available to users starting on June 18, 2007.

FOR FURTHER INFORMATION CONTACT: Renee V. Wright, Program Manager, Docket Operations, Office of Information Services, Office of the Assistant Secretary for Administration, Office of the Secretary, 400 7th Street, SW., Washington, DC 20590 until May 24, 2007, and at West Building Ground Floor, Room W12-140, 1200 New Jersey Avenue, SE, after that; telephone number: 202-366-9826; e-mail address: renee.wright@dot.gov.

SUPPLEMENTARY INFORMATION:

A. How can I access docket materials during the office closure?

During the closure of the Dockets Operations Facility, May 25, 2007, through May 29, 2007, docket materials will remain available to the public through the DMS at http://dms.dot.gov, which is available 24 hours a day/7 days a week. The electronic dockets will continue to be available through June 12, 2007, and will be available to users again on June 18, 2007.

B. How can I submit public docket material for rulemakings, adjudications, and other matters during these disruptions?

Public docket material may continue to be submitted by one of the following methods:

1. During the office closure May 25, 2007, through May 29, 2007:

a. Electronically through the DMS at http://dms.dot.gov, which is available 24 hours a day/7 days a week. Follow the online instructions for submitting comments.

b. By mail through the U.S. Postal Service after Thursday, May 24, 2007, addressed to: U.S. Department of Transportation, Docket Operations, M-30, West Building Ground Floor, Room W12-140, 1200 New Jersey Avenue, SE., Washington, DC 20590.

Mail will be forwarded to the new building during this transition period.

2. When the DMS computer is down from June 13, 2007, through June 17, 2007:

a. By mail addressed to: U.S. Department of Transportation, Docket Operations, M-30, West Building Ground Floor, Room W12-140, 1200 New Jersey Avenue, SE., Washington, DC 20590.

b. By hand delivery to the U.S. Department of Transportation, Docket Operations, M-30, West Building Ground Floor, Room W12-140, 1200 New Jersey Avenue, SE., Washington, DC 20590.

Note, however, that office staff will not begin to place documents received during this period into the DMS electronic system until the computer goes back on line June 18, 2007.

C. What about courier deliveries?

Docket Operations staff will continue to accept deliveries at 400 7th Street, SW., Room PL-401, Washington, DC, until 5 p.m., Thursday, May 24, 2007.

Beginning at 9 a.m. on Wednesday, May 30, 2007, Docket Operations staff will be available to accept deliveries at the new DOT facility on the West Building Ground Floor, Room W12-140, 1200 New Jersey Avenue, SE., Washington, DC 20590.

D. What if a deadline for submission or a need for an emergency filing occurs during the time the Docket Operations office is closed for the move or the computers are out-of-service?

Electronic submissions will still be received during the office move, May 25, 2007, through May 29, 2007. However, they will not be received during the period the computers are down from June 13, 2007, through June 17, 2007. Documents will not be entered into the DMS until the office reopens on May 30, 2007, and until June 18, 2007, when the computers come back on line. Hard copy submissions delivered to Docket Operations by May 30, 2007, will be treated as received in a timely manner if they were due during the office's closure. Generally, time periods/due dates for responsive filings for submissions due during the May office closure will be extended from May 30, 2007, and June 18, 2007, when DMS operations resume. These time periods of closure and computer inaccessibility will be considered “holidays” for purposes of procedural rules.

Persons filing emergency applications or other such documents or who have questions about the timing of filings should contact the appropriate DOT agency for specific information about deadlines and extensions.

E. Does this notice apply to all DOT operating administrations and to the Office of Secretary (OST)?

Yes. It applies to the Federal Aviation Administration (FAA), the National Highway Traffic Safety Administration (NHTSA), the Federal Highway Administration (FHWA), the Federal Railroad Administration (FRA), the Federal Motor Carrier Safety Administration (FMCSA), the Research and Innovative Technology Administration (RITA), the Federal Transit Administration (FTA), the Maritime Administration (MARAD), the Pipeline and Hazardous Materials Safety Administration (PHMSA), the Saint Lawrence Seaway Development Corporation (SLSDC), and the Office of the Secretary (OST).

The Transportation Security Administration (TSA) and the United States Coast Guard (USCG) also use the DMS.

Dated: May 11, 2007.
Neil R. Eisner,
Assistant General Counsel for Regulation and Enforcement.

[FR Doc. E7-9565 Filed 5-17-07; 8:45 am]

BILLING CODE 4910-9X-P